DEPARTMENT OF COMMERCE

Census Bureau

Proposed Information Collection; Comment Request; Annual Retail Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before July 28, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Aneta Erdie, U.S. Census Bureau, Service Sector Statistics Division, Room 8K041, 4600 Silver Hill Road, Washington, DC 20233-6500, (301) 763-4841, (or via the Internet at aneta.erdie@census.gov).

SUPPLEMENTARY INFORMATION:

I. Abstract

The Annual Retail Trade Survey (ARTS) covers employer firms with establishments located in the United States and classified in the Retail Trade and/or Accommodation and Food Services sectors as defined by the North American Industry Classification System (NAICS).

Firms are selected for this survey using a stratified random sample where strata are defined by industry and annual sales size. The sample consisting of businesses classified in the Retail Trade and/or Accommodation and Food Services sector as defined by the 2007 NAICS, is drawn from the Business Register (BR). The BR is the Census Bureau's master business list and contains basic economic information for approximately 7.4 million employer businesses and 22.5 million nonemployer businesses. The BR obtains information through direct data collections and administrative record information from other federal agencies. The sample is updated quarterly to reflect employer business “births” and “deaths”; adding new employer businesses identified in the Business and Professional Classification Survey and deleting firms and Employer Identification Numbers (EINs) when it is determined they are no longer active.

The survey requests firms to provide annual sales, annual e-commerce sales, year-end inventories held inside and outside the United States, total operating expenses, purchases, accounts receivables, and, for selected industries, sales by merchandise line. These data are used to satisfy a variety of public and business needs such as economic market analysis, company performance, and forecasting future demands. Results will be available, at the United States summary level, for selected retail trade, and accommodation and food services, industries approximately fifteen months after the end of the reference year.

Every five years, ARTS requests data on detailed operating expenses. During the next three years, detailed operating expenses will not be collected. The last time ARTS collected detailed operating expenses was in 2013 for the 2012 survey year. The plan is to reinstate these questions in 2018 as part of the 2017 ARTS data collection.

II. Method of Collection

We collect this information by mail, fax, telephone, and Internet.

III. Data

OMB Control Number: 0607-0013.

Form Number(s): SA-44, SA-44A, SA-44C, SA-44E, SA-44N, SA-44S, SA-45, SA-45C, SA-721A, SA-721B, SA-721E, SA-721F, SA-722A, and SA-722E.

Type of Review: Regular submission.

Affected Public: Retail and/or accommodation and food services firms located in the United States.

Estimated Number of Respondents: 20,560.

Estimated Time per Response: 34 minutes.

Estimated Total Annual Burden Hours: 11,533 hours.

Estimated Total Annual Cost to Respondents: $360,868.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 23, 2014.
Glenna Mickelson,
Management Analyst, Office of the Chief Information Officer.

[FR Doc. 2014-12476 Filed 5-28-14; 8:45 am]

BILLING CODE 3510-07-P